FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 24, 2008.

A. Federal Reserve Bank of Minneapolis (Jacqueline G. King, Community Affairs Officer) 90 Hennepin Avenue, Minneapolis, Minnesota 55480-0291:

1. Kirk Sandquist, individually, and acting in concert with Amy Uribe IRA, and Robert Uribe IRA, all of Deer Lodge, Montana, to acquire voting shares of Sandquist Corporation, and thereby indirectly acquire voting shares of Peoples Bank of Deer Lodge, both of Deer Lodge, Montana.

Board of Governors of the Federal Reserve System, December 4, 2008.
Robert deV. Frierson,
Deputy Secretary of the Board.

[FR Doc. E8-29104 Filed 12-8-08; 8:45 am]

BILLING CODE 6210-01-S